DEPARTMENT OF COMMERCE

National Oceanic and Atmospheric Administration

50 CFR Part 679

[Docket No. 200221-0062; RTID 0648-XA759]

Fisheries of the Exclusive Economic Zone Off Alaska; Pacific Cod in the Gulf of Alaska

AGENCY: National Marine Fisheries Service (NMFS), National Oceanic and Atmospheric Administration (NOAA), Commerce.

ACTION: Temporary rule; modification of closure.

SUMMARY: NMFS is opening directed fishing for Pacific cod by various sectors in the Gulf of Alaska (GOA). This action is necessary to fully use the 2021 total allowable catch (TAC) of Pacific cod in the GOA.

DATES: Effective 0001 hours, Alaska local time (A.l.t.), January 1, 2021 through 2400 hours, A.l.t., December 31, 2021. Comments must be received at the following address no later than 4:30 p.m., A.l.t., January 15, 2021.

ADDRESSES: You may submit comments, identified by NOAA-NMFS-2019-0102, by either of the following methods:

• Federal e-Rulemaking Portal: Go to https://www.regulations.gov/docket?D=NOAA-NMFS-2019-0102, click the “Comment Now!” icon, complete the required fields, and enter or attach your comments.

• Mail: Submit written comments to Glenn Merrill, Assistant Regional Administrator, Sustainable Fisheries Division, Alaska Region NMFS, Attn: Records Office. Mail comments to P.O. Box 21668, Juneau, AK 99802-1668.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous).

FOR FURTHER INFORMATION CONTACT: Obren Davis, 907-586-7228.

SUPPLEMENTARY INFORMATION: NMFS manages the groundfish fishery in the GOA exclusive economic zone according to the Fishery Management Plan for Groundfish of the Gulf of Alaska (FMP) prepared by the North Pacific Fishery Management Council (Council) under authority of the Magnuson-Stevens Fishery Conservation and Management Act. Regulations governing fishing by U.S. vessels in accordance with the FMP appear at subpart H of 50 CFR part 600 and 50 CFR part 679.

Pursuant to the final 2020 and 2021 harvest specifications for groundfish in the GOA (85 FR 13802, March 10, 2020), NMFS closed directed fishing for Pacific cod in the GOA in accordance with § 679.20(d)(1)(iii) through December 31, 2021.

As of December 17, 2020, NMFS has determined that 5,590 metric tons (mt) in the Western Regulatory Area and 10,242 mt in the Central Regulatory Area of the GOA of Pacific cod TAC is available in 2021. This is based on the Council's December 2020 recommendation for the 2021 Pacific cod TAC in the GOA. NMFS issued an inseason adjustment to adjust the 2021 Pacific cod TAC to reflect the Council's recommendations (85 FR 83834, December 23, 2020). The adjusted 2021 Pacific cod TACs are sufficient to allow for directed fishing for Pacific cod by vessels using jig gear, vessels using pot gear, and catcher/processors (CPs) using hook-and-line gear in the Western Regulatory Area of the GOA. The adjusted 2021 Pacific cod TACs also are sufficient to allow for directed fishing for Pacific cod by vessels using jig gear, vessels using pot gear, catcher vessels using hook-and-line gear, and CPs using hook-and-line gear in the Central Regulatory Area of the GOA.

Therefore, in accordance with § 679.25(a)(1)(i), (a)(2)(i)(C), and (a)(2)(iii)(D), and to fully utilize the 2021 Pacific cod TAC in the Western Regulatory Area of the GOA, NMFS is terminating the previous closures and is opening directed fishing for Pacific cod by vessels using jig gear, vessels using pot gear, and CPs using hook-and-line gear.

Additionally, in accordance with § 679.25(a)(1)(i), (a)(2)(i)(C), and (a)(2)(iii)(D), and to fully utilize the 2021 Pacific cod TAC in the Central Regulatory Area of the GOA, NMFS is terminating the previous closures and is opening directed fishing for Pacific cod by vessels using jig gear, vessels using pot gear, catcher vessels less than 50 feet length overall (LOA) using hook-and-line gear, catch vessels greater than or equal to 50 feet LOA using hook-and-line gear, and CPs using hook-and-line gear.

This action will enhance the socioeconomic well-being of harvesters in this area. The Administrator, Alaska Region (Regional Administrator) considered the following factors in reaching this decision: (1) The adjusted 2021 Pacific cod TAC in the GOA and (2) the harvest capacity and stated intent on future harvesting patterns of vessels in participating in this fishery.

Classification

NMFS issues this action pursuant to section 305(d) of the Magnuson-Stevens Act. This action is required by 50 CFR part 679, which was issued pursuant to section 304(b), and is exempt from review under Executive Order 12866.

Pursuant to 5 U.S.C. 553(b)(B), there is good cause to waive prior notice and an opportunity for public comment on this action, as notice and comment would be impracticable and contrary to the public interest, as it would prevent NMFS from responding to the most recent fisheries data in a timely fashion and would delay the opening of directed fishing for Pacific cod in the GOA. NMFS was unable to publish a notice providing time for public comment because the most recent, relevant data only became available as of December 23, 2020.

Without this inseason adjustment, NMFS could not allow the fishery for Pacific cod in the GOA to be harvested in an expedient manner and in accordance with the regulatory schedule.

Under § 679.25(c)(2), interested persons are invited to submit written comments on this action to the above address until January 15, 2021.

Authority: 16 U.S.C. 1801 et seq.

Dated: December 28, 2020.
Jennifer M. Wallace,
Acting Director, Office of Sustainable Fisheries, National Marine Fisheries Service.

[FR Doc. 2020-28967 Filed 12-30-20; 8:45 am]

BILLING CODE 3510-22-P